DEPARTMENT OF ENERGY

Federal Energy Regulatory Commission

[Docket No. EL08-79-000]

Arkansas Electric Energy; Consumers, Inc. v. Entergy Corporation, Entergy Services, Inc.; Entergy Arkansas, Inc.; Entergy Gulf States, Louisiana, Inc.; Entergy Louisiana, L.L.C.; Entergy Mississippi, Inc.; Entergy New Orleans, Inc.; Entergy Texas, Inc.; Notice of Complaint

July 29, 2008.

Take notice that on July 28, 2008, Arkansas Electric Energy Consumers, Inc., pursuant to sections 206 of the Federal Power Act and Rule 206 of the Commission Rules of Practice and Procedure, filed with the Commission a complaint against Entergy Corporation; Entergy Services, Inc.; Entergy Arkansas, Inc.; Entergy Gulf States Louisiana, Inc.; Entergy Louisiana, L.L.C.; Entergy Mississippi, Inc.; Entergy New Orleans, Inc; and Entergy Texas, Inc. (collectively, Entergy). The complaint request that the Commission to clarify a number of issues associated with (i) The Entergy System Agreement, (ii) Entergy Arkansas, Inc's. (EAI) pending withdrawal from the System Agreement, (iii) EAI and its affiliates efforts to negotiate a new system agreement to replace that which is currently in place and (iv) EAI's efforts to acquire a combined cycle gas turbine generating plant near Sterlington Louisiana.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of Respondent's answer, protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on August 18, 2008.

Kimberly D. Bose,
Secretary.

[FR Doc. E8-17875 Filed 8-4-08; 8:45 am]

BILLING CODE 6717-01-P